DEPARTMENT OF COMMERCE

National Oceanic and Atmospheric Administration

[I.D. 052705A]

Marine Mammals; File No. 984-1587

AGENCY: National Marine Fisheries Service (NMFS), National Oceanic and Atmospheric Administration (NOAA), Commerce.

ACTION: Issuance of permit amendment.

SUMMARY: Notice is hereby given that Dr. Terrie Williams, Department of Biology, University of California at Santa Cruz, Long Marine Laboratory, Santa Cruz, CA 95064 has been issued an amendment to scientific research Permit No. 984-1587-03.

ADDRESSES: The amendment and related documents are available for review upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Jennifer Skidmore or Amy Sloan, (301) 713-2289.

SUPPLEMENTARY INFORMATION: On December 28, 2004 and February 10, 2005, notices were published in the Federal Register (69 FR 77732 and 70 FR 7082, respectively) that an amendment of Permit No. 984-1587-03 had been requested by the above-named individual. The requested amendment has been granted under the authority of the Marine Mammal Protection Act of 1972, as amended (16 U.S.C. 1361 et seq.), and the Regulations Governing the Taking and Importing of Marine Mammals (50 CFR part 216).

The permit amendment authorizes holding and research activities on two bottlenose dolphins (Tursiops truncatus) and two California sea lions (Zalophus californianus) currently maintained by Long Marine Laboratory. In addition, authorization has been granted for research activities on 30 male and 30 female juvenile California sea lions undergoing rehabilitation at The Marine Mammal Center; a non-profit hospital, rescue, and research facility. This permit has further been extended for three years.

Dated: June 8, 2005.
Stephen L. Leathery,
Chief, Permits, Conservation and Education Division, Office of Protected Resources, National Marine Fisheries Service.

[FR Doc. 05-11736 Filed 6-13-05; 8:45 am]

BILLING CODE 3510-22-S